DEPARTMENT OF VETERANS AFFAIRS

[OMB Control No. 2900-0055]

Agency Information Collection Activity Under OMB Review: Request for Determination of Loan Guaranty Eligibility—Unmarried Surviving Spouses

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before July 25, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0055” in any correspondence.

FOR FURTHER INFORMATION CONTACT: Danny S. Green at (202) 421-1354.

SUPPLEMENTARY INFORMATION: Authority: Public Law 104-13; 44 U.S.C. 3501-3521.

Title: Request for Determination of Loan Guaranty Eligibility—Unmarried Surviving Spouses, VA form 26-1817.

OMB Control Number: 2900-0055.

Type of Review: Extension of a currently approved collection.

Abstract: VA Form 26-1817 is used by VA to determine whether or not an un-remarried spouse of a Veteran is eligible for the VA home loan benefit. Section 3702(c) of Title 38, U.S.C. states that any Veteran may apply to the Secretary for a Certificate of Eligibility (COE). A completed VA Form 26-1817 constitutes a formal request by an un-remarried surviving spouse for a COE. Upon receipt of VA Form 26-1817 and the required documentation by Loan Guaranty personnel, the application and supporting documents are referred to the Adjudication activity via the Administrative activity for determination of the applicant's basic eligibility. Adjudication will then notify Loan Guaranty about the basic eligibility for issuance of the COE. The information collected on the form provides the essential information necessary for VA to make a proper determination.

An agency may not conduct or sponsor, and a person is not required to respond to a collection of information unless it displays a currently valid OMB control number. The Federal Register Notice with a 60-day comment period soliciting comments on this collection of information was published at 84 FR 07730 on April 18, 2019, page 16343.

Affected Public: Individuals or Households.

Estimated Annual Burden: 1,250 hours.

Estimated Average Burden per Respondent: 15 minutes.

Frequency of Response: One-time.

Estimated Number of Respondents: 5,000.

By direction of the Secretary.
Danny Green,
VA Interim Clearance Officer, Office of Quality, Performance and Risk, Department of Veterans Affairs.

[FR Doc. 2019-13428 Filed 6-24-19; 8:45 am]

BILLING CODE 8320-01-P